DEPARTMENT OF THE TREASURY

Alcohol and Tobacco Tax and Trade Bureau

27 CFR Parts 6, 8, 10, and 11

[Docket No. TTB-2022-0011; Notice No. 216B; Re: Notice No. 216 and Notice No. 216A]

RIN 1513-AC92

Consideration of Updates to Trade Practice Regulations

AGENCY: Alcohol and Tobacco Tax and Trade Bureau, Treasury.

ACTION: Advance notice of proposed rulemaking; extension of comment period.

SUMMARY: The Alcohol and Tobacco Tax and Trade Bureau (TTB) is extending for an additional 30 days the comment period for an advance notice of proposed rulemaking it published on November 9, 2022, entitled, “Consideration of Updates to Trade Practice Regulations.” TTB is taking this action in response to a request submitted by multiple stakeholder organizations.

DATES: The comment period for the advance notice of proposed rulemaking published November 9, 2022, at 87 FR 67612, is extended for thirty days. Comments are now due on or before July 7, 2023.

ADDRESSES: You may electronically submit comments on the advance notice of proposed rulemaking and view copies of that notice, this comment period extension notice, and any comments TTB receives within Docket No. TTB-2022-0011 as posted on the Regulations.gov website at https://www.regulations.gov. A link to that docket is available on the TTB website at https://www.ttb.gov/laws-and-regulations/all-rulemaking under Notice No. 216. Alternatively, you may submit comments via postal mail to the Director, Regulations and Rulings Division, Alcohol and Tobacco Tax and Trade Bureau, 1310 G Street NW, Box 12, Washington, DC 20005. Please see the Public Participation section of Notice No. 216 for information on the specific issues and questions on which TTB is soliciting comments, and for information on the submission, confidentiality, and public disclosure of comments.

FOR FURTHER INFORMATION CONTACT: Christopher Forster-Smith, Regulations and Rulings Division, Alcohol and Tobacco Tax and Trade Bureau, 1310 G Street NW, Box 12, Washington, DC 20005; telephone 202-453-1039 ext. 150.

SUPPLEMENTARY INFORMATION: Through an advance notice of proposed rulemaking (ANPRM) issued in November 2022, the Alcohol and Tobacco Tax and Trade Bureau (TTB) solicited comments on its trade practice regulations related to the Federal Alcohol Administration Act's tied house, exclusive outlet, commercial bribery, and consignment sales prohibitions, which are contained in 27 CFR parts 6, 8, 10, and 11, respectively. TTB published that ANPRM as Notice No. 216, “Consideration of Updates to Trade Practice Regulations,” in the Federal Register on November 9, 2022, at 87 FR 67612. TTB solicited comments on specific issues and questions set out in the ANPRM and also invited comments on any other issue or concern related to its trade practice regulations.

As originally published, the comment period closing date for the ANPRM was March 9, 2023. In response to a request from eight alcohol industry trade associations, TTB extended the comment period for Notice No. 216 until June 7, 2023 (see Comment 21 as posted in Docket TTB-2022-0011 on the “Regulations.gov” website at https://www.regulations.gov).

TTB recently received another joint request from the same eight alcohol industry trade associations to extend the comment period for the ANPRM for an additional 90 days. The eight associations supporting the request are the Wine Institute, the Distilled Spirits Council of the United States (DISCUS), WineAmerica, the American Distilled Spirits Alliance (ADSA), the Wine and Spirits Wholesalers of America (WSWA), American Beverage Licensees (ABL), the Beer Institute, and the National Beer Wholesalers Association (NBWA).

The eight associations cite several factors as a basis for their request, and state that “the additional time will allow all producers and all retailers, large and small, to provide meaningful feedback and evidence.” The comment extension request submitted by the associations is posted in Docket TTB-2022-11 as Comment 37 on the “Regulations.gov” website.

TTB also received a comment from the Brewers Association, an industry trade association, opposing any further extension of the comment period. In its comment, the Brewers Association notes that the already-extended comment period for Notice No. 216 will have been open for nearly 7 months by the June 7th closing date. The comment also notes that as Notice No. 216 is an advance notice of proposed rulemaking, there will be further opportunities to comment as the process continues with the issuance of a notice of proposed rulemaking, and states that further postponement of that process is unwarranted. The Brewers Association comment is posted in Docket TTB-2022-11 as Comment 38 on the “Regulations.gov” website.

TTB has decided to extend the comment period for Notice No. 216 for a final time, for an additional 30 days. TTB believes that this 30-day extension of the comment period, in addition to the time that the comment period has been open since November 2022, will be of sufficient length to allow interested parties to consider and comment on the issues raised in the ANPRM, while allowing TTB to then proceed with a notice of proposed rulemaking, which will provide an opportunity to comment on proposed regulations, and ultimately conclude the rulemaking in a timely manner.

Therefore, TTB will now accept public comments on Notice No. 216 through July 7, 2023. See the ANPRM, Notice No. 216, for complete information on the specific issues and questions on which TTB is seeking comment, as well as information on how to submit comments electronically or by postal mail, and on the confidentiality and public disclosure of any submitted comments.

Signed: June 1, 2023.
David M. Wulf,
Deputy Administrator.

[FR Doc. 2023-12047 Filed 6-1-23; 4:15 pm]

BILLING CODE 4810-31-P